DEPARTMENT OF LABOR

Employment and Training Administration

[TA-W-51,595]

Paradise Fisheries, Kodiak, Alaska; Notice of Revised Determination On Remand

The United States Court of International Trade (USCIT) granted the Secretary of Labor's motion for voluntary remand for further investigation of the negative determination in Former Employees of Paradise Fisheries v. U.S. Secretary of Labor (Court No. 03-00758).

On May 5, 2003, the Department issued a negative determination regarding eligibility for workers of Paradise Fisheries, Kodiak, Alaska, to apply for worker adjustment assistance because the Department determined that the worker group eligibility requirements of section (a)(2)(A)(I.C) and section (a)(2)(B)(II.B) of section 222 of the Trade Act of 1974, as amended, were not met. There were no company imports of fresh or chilled salmon, nor was there a shift in production of fresh or chilled salmon from the workers' firm to a foreign country. A survey of the customers determined that there were no increases in imports of salmon that contributed importantly to worker separations at Paradise Fisheries. The notice was published in the Federal Register on May 19, 2003 (68 FR 27106).

In addition to above cited petition, filed by a company official and dated April 21, 2003, the same company official submitted another TAA petition dated April 24, 2003, indicating that the workers were secondarily affected. The information provided on the latter petition was considered before making the negative determination for worker eligibility to apply for adjustment assistance.

On May 15, 2003, the company official requested administrative reconsideration of the Department's denial of TA-W-51,595, citing that the workers were secondarily affected because the firm sold salmon to a salmon processor. On August 7, 2003, the review of the request resulted in a dismissal of the application, because no new information was provided that had not been considered during the initial investigation.

Based on new information submitted by Paradise Fisheries to the U.S. Court of International Trade, the Department has determined that the subject firm did supply salmon to a salmon processing firm whose workers were certified eligible to apply for adjustment assistance. The loss of business with the primary firm whose workers were certified eligible to apply for adjustment assistance contributed importantly to worker separations at Paradise Fisheries, Kodiak, Alaska.

Conclusion

After careful review of the additional facts obtained on remand, I conclude that workers of Paradise Fisheries, Kodiak, Alaska, qualify as adversely affected secondary workers under section 222 of the Trade Act of 1974, as amended.

In accordance with the provisions of the Trade Act, I make the following revised determination:

All workers of Paradise Fisheries, Kodiak, Alaska, who became totally or partially separated from employment on or after April 21, 2002, through two years from the issuance of this revised determination, are eligible to apply for adjustment assistance under section 223 of the Trade Act of 1974.

Signed at Washington, DC, this 6th day of February, 2004.
Linda G. Poole,
Certifying Officer, Division of Trade Adjustment Assistance.

[FR Doc. 04-3328 Filed 2-13-04; 8:45 am]

BILLING CODE 4510-30-P